DEPARTMENT OF ENERGY

Federal Energy Regulatory Commission

[Docket No. AD10-12-000]

Improving Market and Planning Efficiency Through Improved Software; Notice of Agenda and Procedures for Staff Technical Conference

May 20, 2010.

This notice establishes the agenda and procedures for the staff technical conference to be held on June 2, 2010 and June 3, 2010, to discuss issues related to unit commitment software. The technical conference will be held from 8 a.m. to 5:30 p.m. (EDT) on June 2, 2010, and from 8 a.m. to 5 p.m. (EDT) on June 3, 2010 at the Federal Energy Regulatory Commission, 888 First Street, NE., Washington, DC 20426, in the Commission Meeting Room. All interested persons are invited to attend, and registration is not required.

The agenda for this conference is attached. The presentations will be technical in nature, and approximately 20 minutes in length with 5 to 10 minutes for questions. Equipment will be available for computer presentations. Presenters who wish to include comments, presentations, or handouts in the record for this proceeding should file their comments with the Commission. Comments may either be filed on paper or electronically via the eFiling link on the Commission's Web site at http://www.ferc.gov.

A free webcast of this event is available through http://www.ferc.gov. Anyone with Internet access who desires to view this event can do so by navigating to http://www.ferc.gov' s Calendar of Events and locating this event in the calendar. The event will contain a link to its webcast. The Capitol Connection provides technical support for the free webcasts. It also offers access to this event via television in the DC area and via phone bridge for a fee. If you have any questions, visit http://www.CapitolConnection.org or call (703) 993-3100.

FERC conferences are accessible under section 508 of the Rehabilitation Act of 1973. For accessibility accommodations please send an e-mail to accessibility@ferc.gov or call toll free 1-866-208-3372 (voice) or 202-208-8659 (TTY), or send a fax to 202-208-2106 with the required accommodations.

For further information about this conference, please contact:

Eric Krall (Technical Information), Office of Energy Policy and Innovation, (202) 502-6214, Eric.Krall@ferc.gov;

Tom Dautel (Technical Information), Office of Energy Policy and Innovation, (202) 502-6196, Thomas.Dautel@ferc.gov.

Kimberly D. Bose,
Secretary.

Agenda for AD10-12 Staff Technical Conference on Unit Commitment Software Federal Energy Regulatory Commission
June 2, 2010
8 a.m. | Richard O'Neill, FERC—Welcome and Introduction
8:20 a.m. | Session A—Unit Commitment Models in ISO Markets
| Andy Ott, PJM
| Mark Rothleder, California ISO
| Rana Mukerji, NYISO
9:25 a.m. | Session B—Experience, Challenges, and Future Directions in Unit Commitment Models
| Art Cohen and Chien-Ning Yu, ABB
| William Hogan, Harvard
11:40 a.m. | Lunch
12:40 p.m. | Boris Gisin, PowerGEM
1:50 p.m. | Session C—Advances in Hardware and Software
| Jeremy Bloom and John Gregory, IBM
| Alkis Vazacopoulos, FICO
3 p.m. | Session D—New Designs and Advanced Unit Commitment Models
| Kory Hedman, Arizona State University
| Jianhui Wang, Argonne National Laboratory
| Eugene Litvinov, J. Zhao, and T. Zheng ISO-NE
4:55 p.m. | Session E—Test Model Data Sets
| Avnaesh Jayantilal, Areva and Jim Waight, Siemens
| Richard O'Neill and Eric Krall, FERC
5:30 p.m. | Richard O'Neill, FERC—Day 1 Conclusion
June 3, 2010
8 a.m. | Richard O'Neill, FERC—Day 2 Welcome
8:05 a.m. | Session F—Special Topics
| Paul Gribik and Li Zhang, Midwest ISO
| Gary Stern, Southern California Edison
9:25 a.m. | Session G—Variable Energy Resources and Demand Resources in Unit Commitment Models
| Erik Ela, National Renewable Energy Laboratory
| Jayant Kalagnanam, IBM
| Marija Ilic, Carnegie Mellon
| Dhiman Chatterjee, Midwest ISO
11:55 a.m. | Session H—Modeling Uncertainty and Flexibility in Unit Commitment Models
| David Sun, Alstom
12:30 p.m. | Lunch
1:20 p.m. | Jianhui Wang and Audun Botterud, Argonne National Laboratory
| Mohammad Shahidehpour, Illinois Institute of Technology
| Pablo Ruiz, CRA
| Avnaesh Jayantilal, Areva T&D
3:50 p.m. | Session I—Forecasting for Market Operations
| Audun Botterud, Argonne National Laboratory
| Victor M. Zavala, Emil Constantinescu, and Mihai Anitescu, Argonne National Laboratory
5 p.m. | Richard O'Neill, FERC—Conclusion and Next Steps

[FR Doc. 2010-12851 Filed 5-27-10; 8:45 am]

BILLING CODE 6717-01-P